DEPARTMENT OF THE TREASURY

Financial Crimes Enforcement Network; Proposed Collection; Comment Request; Currency Transaction Report by Casinos

AGENCY: Financial Crimes Enforcement Network.

ACTION: Notice and request for comments.

SUMMARY: As part of our continuing effort to reduce paperwork and respondent burden, we invite comment on a proposed extension, without change, of an existing information collection requirement contained in the form, “Currency Transaction Report by Casinos, Financial Crimes Enforcement Network Form 103.” This request for comments is being made pursuant to the Paperwork Reduction Act of 1995, Public Law 104-13, 44 U.S.C. 3506(c)(2)(A).

DATES: Written comments are welcome and must be received on or before March 13, 2006.

ADDRESSES: Written comments should be submitted to: The Financial Crimes Enforcement Network, Department of the Treasury, Post Office Box 39, Vienna, Virginia 22183, Attention: Paperwork Reduction Act Comments—Currency Transaction Report by Casinos Form. Comments also may be submitted by electronic mail to the following Internet address: regcomments@fincen.treas.gov, again with a caption, in the body of the text, “Attention: Paperwork Reduction Act Comments—Currency Transaction Report by Casinos Form.”

Inspection of comments. Comments may be inspected, between 10 a.m. and 4 p.m., in the Financial Crimes Enforcement Network reading room in Washington, D.C. Persons wishing to inspect the comments submitted must request an appointment by telephoning (202) 354-6400.

FOR FURTHER INFORMATION CONTACT: Regulatory Policy and Programs Division at (800) 949-2732.

SUPPLEMENTARY INFORMATION: Title: Currency Transaction Report by Casinos.

OMB Number: 1506-0005.

Form Number: Financial Crimes Enforcement Network Form 103.

Abstract: The statute generally referred to as the “Bank Secrecy Act,” Titles I and II of Public Law 91-508, as amended, codified at 12 U.S.C. 1829b, 12 U.S.C. 1951-1959, and 31 U.S.C. 5311-5332, authorizes the Secretary of the Treasury inter alia to require financial institutions to keep records and file reports that are determined to have a high degree of usefulness in criminal, tax, and regulatory matters, or in the conduct of intelligence or counter-intelligence activities, to protect against international terrorism, and to implement counter-money laundering programs and compliance procedures.¹ Regulations implementing Title II of the Bank Secrecy Act appear at 31 CFR part 103. The authority of the Secretary of the Treasury to administer the Bank Secrecy Act has been delegated to the Director of the Financial Crimes Enforcement Network.

¹ Language expanding the scope of the Bank Secrecy Act to intelligence or counter-intelligence activities to protect against international terrorism was added by Section 358 of the Uniting and Strengthening America by Providing Appropriate Tools Required to Intercept and Obstruct Terrorism Act of 2001, Pub. L. 107-56.

Section 5313(a) authorizes the Secretary of the Treasury to issue regulations that require a report when “a domestic financial institution is involved in a transaction for the payment, receipt, or transfer of United States [sic] coins or currency (or other monetary instruments the Secretary of the Treasury prescribes), in an amount, denomination, or amount and denomination, or under circumstances the Secretary prescribes.” Regulations implementing section 5313(a) are found at 31 CFR 103.22. In general, the regulations require the reporting of transactions in currency in excess of $10,000 a day. Casinos, as defined in 31 U.S.C. 5312(a)(2)(X) and 31 CFR 103.11(n)(7)(i), are financial institutions subject to the currency transaction reporting requirement. Card clubs, as defined in 31 CFR 103.11(n)(8)(i), are casinos subject to currency transaction reporting. (See 63 FR 1919, January 13, 1998.) The Currency Transaction Report by Casinos, Financial Crimes Enforcement Network Form 103, is the form casinos and card clubs (other than those in Nevada) use to comply with the currency transaction reporting requirements.

The attached Currency Transaction Report by Casinos is presented only for purposes of soliciting public comment on the form.

Type of Review: Extension, without change, of an approved information collection.

Affected Public: Business or other for-profit institutions.

Frequency: As required.

Estimated Burden: Reporting average of 20 minutes per response.² Form recordkeeping average of 10 minutes per response, for a total of 30 minutes.

Estimated Number of Respondents: 600.

Estimated Total Annual Responses: 418,866.

Estimated Total Annual Burden Hours: 209,433.

² This burden relates to the completion of the Currency Transaction Report by Casinos form only. The recordkeeping burden of 31 CFR 103.22 is reflected in the final rule requiring casinos and card clubs to file Currency Transaction Reports.

An agency may not conduct or sponsor, and a person is not required to respond to, a collection of information unless the collection of information displays a valid Office of Management and Budget control number. Records required to be retained under the Bank Secrecy Act must be retained for five years.

Request for Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: January 5, 2006.
William J. Fox,
Director, Financial Crimes Enforcement Network.

Attachment: Currency Transaction Report by Casinos, Financial Crimes Enforcement Network Form 103.

BILLING CODE 4810-02-P

[FR Doc. 06-246 Filed 1-10-06; 8:45 am]

BILLING CODE 4810-02-C